DEPARTMENT OF COMMERCE

International Trade Administration

[C-122-858]

Certain Softwood Lumber Products From Canada: Final Results of Countervailing Duty Changed Circumstances Review

AGENCY: Enforcement and Compliance, International Trade Administration, Department of Commerce.

SUMMARY: The U.S. Department of Commerce (Commerce) determines that TRAPA Forest Products Ltd. (TRAPA) is the successor-in-interest (SII) to Trans-Pacific Trading Ltd. (Trans-Pacific) in the context of the countervailing duty (CVD) order on certain softwood lumber products (softwood lumber) from Canada.

DATES: Applicable February 25, 2025.

FOR FURTHER INFORMATION CONTACT: Kristen Johnson, AD/CVD Operations, Office III, Enforcement and Compliance, International Trade Administration, U.S. Department of Commerce, 1401 Constitution Avenue NW, Washington, DC 20230; telephone: (202) 482-4793.

SUPPLEMENTARY INFORMATION:

Background

On January 3, 2018, Commerce published in the Federal Register a CVD order on softwood lumber from Canada.¹ On April 11, 2024, TRAPA filed a request for an expedited CVD changed circumstances review (CCR) stating that effective April 8, 2024, Trans-Pacific changed its name to TRAPA.² On July 29, 2024, Commerce published in the Federal Register the notice of initiation of a CVD CCR for TRAPA.³ On January 31, 2025, Commerce published in the Federal Register its notice of preliminary results finding that TRAPA is the SII to Trans-Pacific and entitled to its predecessor's cash deposit rate.⁴ Commerce provided interested parties with an opportunity to comment on the Preliminary Results,⁵ but no party submitted comments.

¹ See Certain Softwood Lumber Products from Canada: Amended Final Affirmative Countervailing Duty Determination and Countervailing Duty Order, 83 FR 347 (January 3, 2018) (Order).

² See TRAPA's Letter, “Request for Expedited Changed Circumstances Review,” dated April 11, 2024.

³ See Certain Softwood Lumber Products from Canada: Notice of Initiation of Countervailing Duty Changed Circumstances Review, 89 FR 60869 (July 29, 2024).

⁴ See Certain Softwood Lumber Products from Canada: Preliminary Results of Countervailing Duty Changed Circumstances Review, 90 FR 8697 (January 31, 2025) (Preliminary Results), and accompanying Preliminary Decision Memorandum (PDM).

⁵ See Preliminary Results, 90 FR at 8698.

Scope of the Order

The merchandise covered by this Order is certain softwood lumber products.⁶ The products are currently classified under the following Harmonized Tariff Schedule of the United States (HTSUS) numbers: 4406.11.00.00; 4406.91.00.00; 4407.10.01.01; 4407.10.01.02; 4407.10.01.15; 4407.10.01.16; 4407.10.01.17; 4407.10.01.18; 4407.10.01.19; 4407.10.01.20; 4407.10.01.42; 4407.10.01.43; 4407.10.01.44; 4407.10.01.45; 4407.10.01.46; 4407.10.01.47; 4407.10.01.48; 4407.10.01.49; 4407.10.01.52; 4407.10.01.53; 4407.10.01.54; 4407.10.01.55; 4407.10.01.56; 4407.10.01.57; 4407.10.01.58; 4407.10.01.59; 4407.10.01.64; 4407.10.01.65; 4407.10.01.66; 4407.10.01.67; 4407.10.01.68; 4407.10.01.69; 4407.10.01.74; 4407.10.01.75; 4407.10.01.76; 4407.10.01.77; 4407.10.01.82; 4407.10.01.83; 4407.10.01.92; 4407.10.01.93; 4407.11.00.01; 4407.11.00.02; 4407.11.00.42; 4407.11.00.43; 4407.11.00.44; 4407.11.00.45; 4407.11.00.46; 4407.11.00.47; 4407.11.00.48; 4407.11.00.49; 4407.11.00.52; 4407.11.00.53; 4407.12.00.01; 4407.12.00.02; 4407.12.00.17; 4407.12.00.18; 4407.12.00.19; 4407.12.00.20; 4407.12.00.58; 4407.12.00.59; 4407.13.00.00; 4407.14.00.00; 4407.19.00.01; 4407.19.00.02; 4407.19.00.54; 4407.19.00.55; 4407.19.00.56; 4407.19.00.57; 4407.19.00.64; 4407.19.00.65; 4407.19.00.66; 4407.19.00.67; 4407.19.00.68; 4407.19.00.69; 4407.19.00.74; 4407.19.00.75; 4407.19.00.76; 4407.19.00.77; 4407.19.00.82; 4407.19.00.83; 4407.19.00.92; 4407.19.00.93; 4407.19.05.00; 4407.19.06.00; 4407.19.10.01; 4407.19.10.02; 4407.19.10.54; 4407.19.10.55; 4407.19.10.56; 4407.19.10.57; 4407.19.10.64; 4407.19.10.65; 4407.19.10.66; 4407.19.10.67; 4407.19.10.68; 4407.19.10.69; 4407.19.10.74; 4407.19.10.75; 4407.19.10.76; 4407.19.10.77; 4407.19.10.82; 4407.19.10.83; 4407.19.10.92; 4407.19.10.93; 4409.10.05.00; 4409.10.10.20; 4409.10.10.40; 4409.10.10.60; 4409.10.10.80; 4409.10.20.00; 4409.10.90.20; 4409.10.90.40; 4418.30.01.00; 4418.50.00.10; 4418.50.00.30; 4418.50.0050; 4418.99.10.00; 4418.99.91.05; 4418.99.91.20; 4418.99.91.40; 4418.99.91.95; 4421.99.98.80; 4415.20.40.00; 4415.20.80.00; 4418.99.90.05; 4418.99.90.20; 4418.99.90.40; 4418.99.90.95; 4421.99.70.40; and 4421.99.97.80. Although these HTSUS subheadings are provided for convenience and customs purposes, the written description of the scope is dispositive.

⁶ For a complete description of the scope, see Preliminary Results PDM at 2-4.

Final Results of CCR

For the reasons stated in the Preliminary Results, Commerce continues to find that TRAPA is the SII to Trans-Pacific in accordance with 19 CFR 351.216 and section 751(b) of the Tariff Act of 1930, as amended (the Act). Because our findings remain unchanged from the Preliminary Results, no decision memorandum accompanies this notice. We are adopting the Preliminary Results as the final results in this CCR. See the Preliminary Results PDM for a complete discussion of our findings.

As a result of this determination, Commerce will instruct U.S. Customs and Border Protection to suspend liquidation of all shipments of subject merchandise produced and/or exported by TRAPA and entered, or withdrawn from warehouse, for consumption on or after the publication date of this notice in the Federal Register at the 6.74 percent cash deposit rate in effect for Trans-Pacific.⁷ This cash deposit requirement shall remain in effect until further notice.

⁷ See Certain Softwood Lumber Products from Canada: Final Results of the Countervailing Duty Administrative Review; 2022, 89 FR 67062, 67065 (August 19, 2024).

Administrative Protective Order (APO)

This notice also serves as a final reminder to parties subject to an APO of their responsibility concerning the return or destruction of proprietary information disclosed under APO in accordance with 19 CFR 351.305(a)(3). Timely written notification of the return or destruction of APO materials or conversion to judicial protective order is hereby requested. Failure to comply with the regulations and the terms of an APO is a sanctionable violation.

Notification to Interested Parties

We are issuing this determination and publishing these final results and notice in accordance with sections 751(b)(1) and 777(i)(1) and (2) of the Act, and 19 CFR 351.216(e), 351.221(b), and 351.221(c)(3).

Dated: February 18, 2025.
Christopher Abbott,
Deputy Assistant Secretary for Policy and Negotiations, performing the non-exclusive functions and duties of the Assistant Secretary for Enforcement and Compliance.

[FR Doc. 2025-03037 Filed 2-24-25; 8:45 am]

BILLING CODE 3510-DS-P